DEPARTMENT OF HOMELAND SECURITY

Coast Guard

33 CFR Part 165

[Docket Number USCG-2024-0253]

RIN 1625-AA00

Safety Zone; Annual Fireworks Displays Within the Sector Columbia River Captain of the Port Zone

AGENCY: Coast Guard, Department of Homeland Security (DHS).

ACTION: Notice of proposed rulemaking.

SUMMARY: The Coast Guard proposes to amend the regulations establishing safety zones for annual fireworks displays in the Captain of the Port Zone Columbia River. This action would include updating 12 existing safety zones, adding 2 safety zones for fireworks displays that were previously published under temporary regulations, and reordering the table alphabetically. We invite your comments on this proposed rulemaking.

DATES: Comments and related material must be received by the Coast Guard on or before May 13, 2024.

ADDRESSES: You may submit comments identified by docket number USCG-2024-0253 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Lieutenant Carlie Gilligan, Sector Columbia River Waterways Management Division, U.S. Coast Guard; telephone 503-240-9319, email SCRWWM@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

The Coast Guard proposes to revise its regulation for recurring fireworks displays in the geographic boundaries of the Thirteenth Coast Guard District Sector Columbia River Captain of the Port (COTP) Zone, 33 CFR 165.1315. This proposed rule would update the name of 10 events, update the date or location of 2 events, add 2 safety zones for new, recurring fireworks displays that were previously published as temporary safety zones, and reorder the table alphabetically. The purpose of this revision is to provide the public accurate information regarding safety zones for annual fireworks displays in the Captain of the Port Zone Columbia River Zone.

The Coast Guard proposes this rulemaking under authority in 46 U.S.C. 70034. The Captain of the Port Sector Columbia River has determined that fireworks displays create hazardous conditions for the maritime public because of the large number of vessels near the displays, as well as the noise, falling debris, and explosions that occur during the events. Because firework discharge sites pose a potential hazard to the maritime public, these safety zones are necessary to restrict vessel movement and reduce vessel congregation near firework discharge sites.

III. Discussion of Proposed Rule

The Coast Guard proposes to revise safety zone regulations designated in the table in 33 CFR 165.1315(a). Specifically, this rule would alphabetize the events, make minor updates to the names of 10 events, update the location of 1 event (Newport 4th of July), update the typical date of 1 event (The 4th of July at Pekin Ferry), and add two events (Umatilla Landing Days and City of Richland Lighted Boat Parade Festival).

The Umatilla Landing Days safety zone was previously issued as a temporary final rule (88 FR 32966, May 23, 2023), and after conferring with the event sponsor, the Coast Guard has learned it will be a recurring fireworks display. This safety zone would cover all navigable waters within a 400-foot radius of the fireworks launch site in Umatilla, OR, located at 45°55′37″ N, 119°19′47″ W.

On November 29, 2023, the Coast Guard announced the creation of a temporary safety zone for all navigable waters within a 600-foot radius of a fireworks display on the Columbia River for the City of Richland Christmas Fireworks display in Richland, WA, which ended December 2, 2023. A copy of the announcement is available in the Docket USCG-2024-0253, which can be found using instructions in the ADDRESSES section. After conferring with the event sponsor, the Coast Guard has learned it will become a recurring fireworks display. This new reoccurring safety zone would cover all navigable waters within a 600-foot radius of the fireworks launch site in Richland, WA, located at 46°16′29″ N, 119°16′10″ W.

Finally, the Coast Guard is revising twelve existing fireworks display safety zones. These revisions include updating the date for 4th of July at Pekin Ferry to more precisely describe when the fireworks display will occur, updating the location for Newport 4th of July, and making minor name updates to the following events: Brookings, OR July 4th Celebration; Port of Cascade Locks 4th of July Fireworks; Bald Eagle Days; City of Coos Bay July 4th Celebration/Fireworks Over the Bay; The Dalles Area Fourth of July; Ilwaco July 4th Committee Fireworks/Independence Day at the Port; Tri-City Chamber of Commerce Fireworks/Kennewick River of Fire Festival; City of Rainier/Rainier Days; City of St. Helens 4th of July Fireworks; and Cedco Inc./The Mill Casino Independence Day. These updates will eliminate confusion caused by the fireworks display safety zones listed in the 33 CFR 165.1315 table and any subsequently issued temporary safety zones resulting from changes to the dates or locations of the events. The regulatory text we are proposing appears at the end of this document.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under section 3(f) of Executive Order 12866, as amended by Executive Order 14094 (Modernizing Regulatory Review). Accordingly, the NPRM has not been reviewed by the Office of Management and Budget (OMB).

This regulatory action determination is based on the size, location, duration, and time-of day of the events. Moreover, the Coast Guard would issue a Broadcast Notice to Mariners via VHF-FM and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves safety zones lasting various times that would prohibit entry within defined areas. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2024-0253 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. In § 165.1315, revise and republish paragraph (a) to read as follows:

§ 165.1315 Safety Zone; Annual Fireworks Displays within the Sector Columbia River Captain of the Port Zone.

(a) Safety zones. The following areas are designated safety zones: Waters of the Columbia River and its tributaries, waters of the Siuslaw River, Yaquina River, Umpqua River, Clatskanie River, Tillamook Bay and waters of the Washington and Oregon Coasts, within a 450 yard radius of the launch site at the approximate locations listed in the following table:

Table 1 to Paragraph (a)
Event name (typically) | Event location | Date of event | Latitude | Longitude
Portland Rose Festival Fireworks | Portland, OR | One day in May or June | 45°30′58″ N | 122°40′12″ W
The 4th of July at Pekin Ferry | Ridgefield, WA | One day in June or July | 45°52′07″ N | 122°43′53″ W
Umatilla Landing Days | Umatilla, OR | One day in June | 45°55′37″ N | 119°19′47″ W
Astoria-Warrenton 4th of July Fireworks | Astoria, OR | One day in July | 46°11′34″ N | 123°49′28″ W
Bandon 4th of July | Bandon, OR | One day in July | 43°07′29″ N | 124°25′05″ W
Brookings July 4th Celebration | Brookings, OR | One day in July | 42°02′39″ N | 124°16′14″ W
Cascade Locks 4th of July Fireworks | Cascade Locks, OR | One day in July | 45°40′15″ N | 121°53′43″ W
Cathlamet Bald Eagle Days | Cathlamet, WA | One day in July | 46°12′14″ N | 123°23′17″ W
Clatskanie Heritage Days Fireworks | Clatskanie, OR | One day in July | 46°6′17″ N | 123°12′02″ W
Fireworks Over the Bay | Coos Bay, OR | One day in July | 43°22′06″ N | 124°12′24″ W
Florence Independence Day Celebration | Florence, OR | One day in July | 43°58′09″ N | 124°05′50″ W
Fort Dalles Fourth of July | The Dalles, OR | One day in July | 45°36′18″ N | 121°10′23″ W
Gardiner 4th of July | Gardiner, OR | One day in July | 43°43′55″ N | 124°06′48″ W
Garibaldi Days Fireworks | Garibaldi, OR | One day in July | 45°33′13″ N | 123°54′56″ W
Hood River 4th of July | Hood River, OR | One day in July | 45°42′58″ N | 121°30′32″ W
Huntington 4th of July | Huntington, OR | One day in July | 44°18′02″ N | 117°13′33″ W
Ilwaco Independence Day at the Port | Ilwaco, WA | One day in July | 46°18′17″ N | 124°02′00″ W
Independence Day at the Fort Vancouver | Vancouver, WA | One day in July | 45°36′57″ N | 122°40′09″ W
July 4th Party at the Port of Gold Beach | Gold Beach, OR | One day in July | 42°25′30″ N | 124°25′03″ W
Kennewick River of Fire Fireworks | Kennewick, WA | One day in July | 46°13′37″ N | 119°08′47″ W
Lincoln City 4th of July | Lincoln City, OR | One day in July | 44°55′28″ N | 124°01′31″ W
Newport 4th of July | Newport, OR | One day in July | 44°37′31″ N | 124°02′5″ W
Oaks Park Association 4th of July | Portland, OR | One day in July | 45°28′22″ N | 122°39′59″ W
Port Orford 4th of July Jubilee | Port Orford, OR | One day in July | 42°44′31″ N | 124°29′30″ W
Rainier Days in the Park | Rainier, OR | One day in July | 46°05′46″ N | 122°56′18″ W
Roseburg Hometown 4th of July | Roseburg, OR | One day in July | 43°12′58″ N | 123°22′10″ W
Splash Aberdeen Waterfront Festival | Aberdeen, WA | One day in July | 46°58′40″ N | 123°47′45″ W
St. Helens 4th of July Fireworks | St. Helens, OR | One day in July | 45°51′54″ N | 122°47′26″ W
The Mill Casino Independence Day | North Bend, OR | One day in July | 43°23′42″ N | 124°12′55″ W
Toledo Summer Festival | Toledo, OR | One day in July | 44°37′08″ N | 123°56′24″ W
Waldport 4th of July | Waldport, OR | One day in July | 44°25′31″ N | 124°04′44″ W
Washougal 4th of July | Washougal, WA | One day in July | 45°34′32″ N | 122°22′53″ W
Waterfront Blues Festival Fireworks | Portland, OR | One day in July | 45°30′42″ N | 122°40′14″ W
Waverly Country Club 4th of July Fireworks | Milwaukie, OR | One day in July | 45°27′03″ N | 122°39′18″ W
Westport 4th of July | Westport, WA | One day in July | 46°54′17″ N | 124°05′59″ W
Winchester Bay 4th of July Fireworks | Winchester Bay, OR | One day in July | 43°40′56″ N | 124°11′13″ W
Yachats 4th of July | Yachats, OR | One day in July | 44°18′38″ N | 124°06′27″ W
Astoria Regatta | Astoria, OR | One day in August | 46°11′34″ N | 123°49′28″ W
Oregon Symphony Concert Fireworks | Portland, OR | One day in August or September | 45°30′42″ N | 122°40′14″ W
Leukemia and Lymphoma Light the Night Fireworks | Portland, OR | One day in October | 45°30′23″ N | 122°40′4″ W
Veterans Day Celebration | The Dalles, OR | One day in November | 45°36′18″ N | 121°10′34″ W
City of Richland Lighted Boat Parade Fireworks | Richland, WA | One weekend in December | 46°16′29″ N | 119°16′10″ W

* * * * *

Dated: April 6, 2024.
J.W. Noggle,
Captain, U.S. Coast Guard, Captain of the Port Sector Columbia River.

[FR Doc. 2024-07779 Filed 4-11-24; 8:45 am]

BILLING CODE 9110-04-P